DEPARTMENT OF COMMERCE

Foreign-Trade Zones Board

[Order No. 1574]

Grant of Authority For Subzone Status

Banner Pharmacaps, Inc.

(Prescription Pharmaceuticals and Soft Gelatin Capsules)

High Point, North Carolina

Pursuant to its authority under the Foreign-Trade Zones Act of June 18, 1934, as amended (19 U.S.C. 81a-81u), the Foreign-Trade Zones Board (the Board) adopts the following Order:

WHEREAS, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

WHEREAS, the Board's regulations (15 CFR Part 400) provide for the establishment of special-purpose subzones when existing zone facilities cannot serve the specific use involved, and when the activity results in a significant public benefit and is in the public interest;

WHEREAS, the Piedmont Triad Partnership, grantee of FTZ 230, has made application to the Board for authority to establish special-purpose subzone status at the pharmaceutical manufacturing plant of Banner Pharmacaps, Inc., located in High Point, North Carolina (FTZ Docket 8-2008, filed 2/12/08);

WHEREAS, notice inviting public comment has been given in the Federal Register (73 FR 10421, 2/27/08); and,

WHEREAS, the Board adopts the findings and recommendations of the examiner's report, and finds that the requirements of the FTZ Act and the Board's regulations are satisfied, and that approval of the application is in the public interest;

NOW, THEREFORE, the Board hereby grants authority for subzone status for activity related to certain prescription pharmaceutical product and soft gelatin capsule manufacturing at the Banner Pharmacaps, Inc., facility located in High Point, North Carolina (Subzone 230C), as described in the application and Federal Register notice, and subject to the FTZ Act and the Board's regulations, including Section 400.28.

Signed at Washington, DC, this 2nd day of September 2008.

David M. Spooner,
Assistant Secretary of Commerce for Import Administration.
Alternate Chairman Foreign-Trade Zones Board.
ATTEST:
Andrew McGilvray,
Executive Secretary.

[FR Doc. E8-21847 Filed 9-17-08; 8:45 am]

BILLING CODE 3510-DS-S